ENVIRONMENTAL PROTECTION AGENCY

40 CFR Part 52

[EPA-R03-OAR-2007-0027; FRL-8316-3]

Approval and Promulgation of Air Quality Implementation Plans; Delaware; Electric Generating Unit Multi-Pollutant Regulation

AGENCY: Environmental Protection Agency (EPA).

ACTION: Proposed rule.

SUMMARY: EPA is proposing to approve a State Implementation Plan (SIP) revision submitted by the State of Delaware. This revision pertains to establishing limits on the emissions of nitrogen oxides (NOX) and sulfur dioxide (SO2) from Delaware's large electric generation units (EGUs). This action is being taken under the Clean Air Act (CAA or the Act).

DATES: Written comments must be received on or before June 18, 2007.

ADDRESSES: Submit your comments, identified by Docket ID Number EPA-R03-OAR-2007-0027 by one of the following methods:

A. http://www.regulations.gov. Follow the on-line instructions for submitting comments.

B. E-mail: miller.linda@epa.gov.

C. Mail: EPA-R03-OAR-2007-0027, Linda Miller, Acting Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2007-0027. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an (anonymous access( system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Delaware Department of Natural Resources & Environmental Control, 89 Kings Highway, P.O. Box 1401, Dover, Delaware 19901.

FOR FURTHER INFORMATION CONTACT: Rose Quinto, (215) 814-2182, or by e-mail at quinto.rose@epa.gov.

SUPPLEMENTARY INFORMATION: On November 16, 2006, the Delaware Department of Natural Resources and Environmental Control (DNREC) submitted a revision to its State Implementation Plan (SIP) for Regulation No. 1146—Electric Generating Unit Multi-Pollutant Regulation.

I. Background

Regulation No. 1146 establishes NOX, SO2 and mercury emissions limits to achieve reductions of those pollutants from Delaware's large EGUs of coal-fired and residual oil-fired EGUs with a nameplate capacity rating of 25 megawatts (MW) or greater generating capacity. Only the NOX and SO2 sections of this regulation will be discussed in this rulemaking. The mercury sections of this regulation will be discussed in a separate rulemaking.

Regulation No. 1146 will help Delaware attain and maintain the national ambient air quality standards (NAAQS) for ozone and particulate matter (PM2.5) and will assist Delaware in achieving the emissions reductions needed to support Delaware's 8-hour ozone reasonable further progress plan (RFP). This multi-pollutant regulation will not replace the Federal Clean Air Interstate Rule (CAIR) requirements and does not relieve affected sources from participating in and complying with all CAIR cap-and-trade program requirements.

II. Summary of SIP Revision

Regulation No. 1146 applies to coal-fired and residual oil-fired EGUs located in Delaware with a nameplate capacity rating of 25 MW or greater. The large EGUs subject to Regulation No. 1146 are Conective Delmarva Generating, Inc.'s Edge Moor Generating Station Units 3, 4 and 5 located in New Castle County; the City of Dover's McKee Run Generating Station Unit 3 located in Kent County; and NRG Energy, Inc.'s Indian River Generating Station Units 1, 2, 3 and 4 located in Sussex County.

Regulation No. 1146 also contains definitions; emissions limitations for NOX and SO2; recordkeeping and reporting; compliance plan; and annual mass emission limits for NOX and SO2.

A. Emissions Limitations

1. NOX

Regulation No. 1146 includes short term NOX emission rate limits and will be implemented in a phased manner. For Phase I, May 1, 2009 through December 31, 2011, the short term NOX emission rate limit is 0.15 lb/MMBTU of heat input on a rolling 24-hour average basis. For Phase II, January 1, 2012 and beyond, the short term NOX emission rate limit is 0.125 lb/MMBTU of heat input on a rolling 24-hour average basis.

A unit subject to this regulation shall not emit annual NOX mass emissions that exceed the values shown in Table I on or after January 1, 2009.

Table I.—Annual NOX Mass Emissions Limits
Unit | Control period NOX mass emissions limit (tons)
Edge Moor 3 | 773
Edge Moor 4 | 1339
Edge Moor 5 | 1348
Indian River 1 | 601
Indian River 2 | 628
Indian River 3 | 977
Indian River 4 | 2032
McKee Run 3 | 244

2. SO2

Regulation No. 1146 includes short term SO2 emission rate limits and will also be implemented in a phased manner. For Phase I, May 1, 2009 through December 31, 2011, the short term SO2 emission rate limit is 0.37 lb/MMBTU of heat input on a rolling 24-hour average basis. For Phase II, January 1, 2012 and beyond, the short term SO2 emission rate limit is 0.26 lb/MMBTU of heat input on a rolling 24-hour average basis.

A unit subject to this regulation shall not emit annual SO2 mass emissions that exceed the values shown in Table II on or after January 1, 2009.

Table II.—Annual SO2 Mass Emissions Limits
Unit | Control period SO2 mass emissions limit (tons)
Edge Moor 3 | 1391
Edge Moor 4 | 2410
Edge Moor 5 | 2427
Indian River 1 | 1082
Indian River 2 | 1130
Indian River 3 | 1759
Indian River 4 | 3657
McKee Run 3 | 439

B. Compliance Demonstration

NOX and SO2 emissions from multiple units subject to Regulation No. 1146 at a common facility may be averaged on a heat input basis to demonstrate compliance.

Regulation No. 1146 requires compliance demonstration with the emissions limitations for NOX and SO2 through the use of EPA and DNREC approved continuous emissions monitoring systems (CEMS). Regulation No. 1146 also requires that these CEMS must be installed, certified, calibrated, operated, and maintained in accordance with EPA requirements. For NOX and SO2 emissions, Regulation No. 1146 specifies that CEMS must comply with all 40 CFR part 75; including monitoring, recordkeeping, quality assurance/quality control (QA/QC), and reporting requirements. These are the same requirements that are necessary for compliance with EPA's CAIR program, for which each of the units subject to this regulation are also subject.

C. Compliance Plan

Regulation No. 1146 requires a submission of a compliance plan from the owner or operator of a unit subject to this regulation to DNREC on or before July 1, 2007.

D. Recordkeeping and Reporting

Regulation No. 1146 requires compliance with all applicable recordkeeping and reporting requirements of 40 CFR part 75. Owner or operator of a unit subject to this regulation shall maintain for a period of at least 5 years, copies of all measurements, tests, reports and other information required by 40 CFR part 75. This information shall be provided to DNREC upon request at anytime.

III. Proposed Action

EPA is proposing to approve the Delaware SIP revision for Regulation No. 1146—Electric Generating Unit Multi-Pollutant Regulation submitted on November 16, 2006 pertaining to NOX and SO2. This regulation will result in the reduction of NOX and SO2 emissions from the affected sources. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed rule pertaining to Delaware's Electric Generating Unit Multi-Pollutant Regulation, does not impose an information collection burden under the provisions of the Paperwork Reduction Act of 1995 (44 U.S.C. 3501 et seq.).

List of Subjects in 40 CFR Part 52

Environmental protection, Air pollution control, Nitrogen dioxide, Ozone, Reporting and recordkeeping requirements, Sulfur oxides, Volatile organic compounds.

Authority: 42 U.S.C. 7401 et seq.

Dated: May 10, 2007.
William T. Wisniewski,
Acting Regional Administrator, Region III.

[FR Doc. E7-9519 Filed 5-16-07; 8:45 am]

BILLING CODE 6560-50-P